INTERNATIONAL TRADE COMMISSION

[Investigation No. 337-TA-1137]

Certain Semiconductor Lithography Systems and Components Thereof; Notice of Commission Determination Not To Review an Initial Determination Terminating the Investigation in Its Entirety

AGENCY: U.S. International Trade Commission.

ACTION: Notice.

SUMMARY: Notice is hereby given that the U.S. International Trade Commission (“Commission”) has determined not to review a March 12, 2019 initial determination (“ID”) (Order No. 9) terminating this investigation in its entirety based on a settlement agreement. The investigation is terminated.

FOR FURTHER INFORMATION CONTACT: Ron Traud, Office of the General Counsel, U.S. International Trade Commission, 500 E Street SW, Washington, DC 20436, telephone (202) 205-3427. Copies of non-confidential documents filed in connection with this investigation are or will be available for inspection during official business hours (8:45 a.m. to 5:15 p.m.) in the Office of the Secretary, U.S. International Trade Commission, 500 E Street SW, Washington, DC 20436, telephone 202-205-2000. General information concerning the Commission may also be obtained by accessing its internet server (https://www.usitc.gov). The public record for this investigation may be viewed on the Commission's electronic docket (EDIS) at https://edis.usitc.gov. Hearing-impaired persons are advised that information on this matter can be obtained by contacting the Commission's TDD terminal at 202-205-1810.

SUPPLEMENTARY INFORMATION: On October 23, 2018, the Commission instituted this investigation under section 337 of the Tariff Act of 1930, as amended, 19 U.S.C. 1337 (“section 337”), based on a complaint filed by ASML Netherlands B.V. of Veldhoven, the Netherlands, ASML US, L.P. of Chandler, AZ, and ASML US, LLC of Chandler, AZ (collectively, “ASML”). 83 FR 53498 (Oct. 23, 2018). The complaint alleges a violation of section 337 by reason of infringement of certain claims of U.S. Patent Nos. 7,295,283, 7,403,264, and 9,188,880. The Commission's notice of investigation named as respondents Nikon Corporation of Tokyo, Japan, Nikon Precision Inc. of Belmont, California, and Nikon Research Corporation of America of Belmont, California (collectively, “Nikon”). Id. The Office of Unfair Import Investigations is not a party in this investigation. Id.

On February 25, 2019, ASML and Nikon jointly moved pursuant to Commission Rule 210.21(b) (19 CFR 201.21(b)) to terminate this investigation in its entirety based on a settlement agreement.

On March 12, 2019, the presiding administrative law judge issued Order No. 9, the subject ID, which grants the motion. The ID finds that the joint motion complies with Commission Rule 210.21(b). The ID additionally finds that terminating the investigation is in the public interest. No petitions for review of the ID were filed.

The Commission has determined not to review the ID. This investigation is terminated.

The authority for the Commission's determination is contained in Section 337 of the Tariff Act of 1930, as amended (19 U.S.C. 1337), and in part 210 of the Commission's Rules of Practice and Procedure (19 CFR part 210).

By order of the Commission.
Issued: April 4, 2019.
Lisa Barton,
Secretary to the Commission.

[FR Doc. 2019-07046 Filed 4-9-19; 8:45 am]

BILLING CODE 7020-02-P